DEPARTMENT OF COMMERCE

National Oceanic and Atmospheric Administration

RIN 0648-XA269

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration and that the activities authorized under this EFP would be consistent with the goals and objectives of the Monkfish Fishery Management Plan (FMP). However, further review and consultation may be necessary before a final determination is made to issue an EFP. This EFP would grant exemptions from monkfish days-at-sea (DAS) possession limits.

Regulations under the Magnuson-Stevens Fishery Conservation and Management Act require publication of this notification to provide interested parties the opportunity to comment on applications for proposed EFPs.

DATES: Comments must be received on or before April 8, 2011.

ADDRESSES: You may submit written comments by any of the following methods:

• E-mail: nero.efp@noaa.gov. Include in the subject line “Comments on GMRI Monkfish RSA EFP.”

• Mail: Patricia A. Kurkul, Regional Administrator, NMFS, NE Regional Office, 55 Great Republic Drive, Gloucester, MA 01930. Mark the outside of the envelope “Comments on GMRI monkfish RSA EFP.”

• Fax: (978) 281-9135.

FOR FURTHER INFORMATION CONTACT: Jason Berthiaume, Fishery Management Specialist, 978-281-9177.

SUPPLEMENTARY INFORMATION: An application for an EFP was submitted by the Gulf of Maine Research Institute (GMRI) on February 23, 2011, in support of a project preliminarily selected under the New England and Mid-Atlantic Fishery Management Councils' Monkfish RSA Program. The project proposes to use archival tagging and age validation efforts to assess monkfish movement, age structure, and growth. This EFP would grant an exemption from monkfish possession limits to facilitate compensation fishing to fund this research project. GMRI would tag monkfish using data storage tags that would record time, pressure (depth), and temperature. GMRI would charter fishing vessels to conduct the research. The vessels would use standard commercial gear and land monkfish for sale, but sampling locations and protocol would be controlled by the researcher. The research vessels would not land any fish below the legal size for commercial purposes.

Compensation fishing for this research would occur from May 2011 through April 2012, with a possible extension through April 2013, as authorized by the Monkfish FMP and 50 CFR 648.92(c)(1)(v). Pending a final award by NOAA Grants, GMRI has been awarded 368 monkfish DAS under the Monkfish RSA Program. To facilitate compensation fishing, the applicant has requested exemptions from monkfish DAS possession limits at 50 CFR 648.94(b)(1) and (2). The applicant stated that these exemptions would provide the vessels with flexibility to fulfill the financial needs of the project, while minimizing vessel operating expenses. Based on budget needs and an estimated monkfish price per pound, the project would need a total catch of 1,324,800 lb (600,919 kg) of whole monkfish (399,036 lb (181,000 kg) tail weight). Operating under this total landings cap, compensation fishing would continue until the goal of 1,324,800 lb (600,919 kg) of whole monkfish is caught, or until the awarded DAS have been fully utilized, whichever occurs first. Aside from these exemptions, fishing activity would be conducted under normal commercial practices. NMFS is considering imposing a cap on monkfish DAS possession limit exemptions for vessels operating under the monkfish RSA program due to potential effects that such exemptions may have on monkfish market price and catch rates for non-RSA vessels.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 21, 2011.
Margo Schulze-Haugen,
Acting Director, Office of Sustainable Fisheries, National Marine Fisheries Service.

[FR Doc. 2011-7023 Filed 3-23-11; 8:45 am]

BILLING CODE 3510-22-P